DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 2 individuals whose property and interests in property are blocked pursuant to Executive Order 13224 of September 23, 2001, “Blocking Property and Prohibiting Transactions With Persons Who Commit, Threaten To Commit, or Support Terrorism.”

DATES: OFAC's actions described in this notice were effective on March 30, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On March 30, 2017, OFAC blocked the property and interests in property of the following 2 individuals pursuant to E.O. 13224, “Blocking Property and Prohibiting Transactions With Persons Who Commit, Threaten To Commit, or Support Terrorism”:

Individuals

1. TAMTOMO, Muhammad Bahrun Naim Anggih (a.k.a. NAIM, Bahrun; a.k.a. TAMTOMO, Anggih; a.k.a. “AISYAH, Abu”; a.k.a. “RAYAN, Abu”; a.k.a. “RAYYAN, Abu”), Aleppo, Syria; Raqqa, Syria; DOB 06 Sep 1983; POB Surakarta, Indonesia; alt. POB Pekalongan, Indonesia; nationality Indonesia; Gender Male (individual) [SDGT] (Linked To: ISLAMIC STATE OF IRAQ AND THE LEVANT).

2. JEDI, Muhammad Wanndy Bin Mohamed (a.k.a. JEDI, Muhamad Wanndy bin Muhamad; a.k.a. JEDI, Muhamad Wanndy Mohamad; a.k.a. JEDI, Muhamad Wanndy Muhamad; a.k.a. WANNDY, Muhamad; a.k.a. “AL-FATEH, Abu Hamzah”; a.k.a. “AL-MALIZI, Abu Sayyaf”), Syria; DOB 16 Nov 1990; alt. DOB 1989 to 1991; POB Durian Tunggal, Malacca, Malaysia; nationality Malaysia; Gender Male; Passport A33373751 (Malaysia); National ID No. 90116-04-5293 (individual) [SDGT] (Linked To: ISLAMIC STATE OF IRAQ AND THE LEVANT).

Dated: March 30, 2017.
Andrea Gacki,
Acting Director, Office of Foreign Assets Control.

[FR Doc. 2017-06598 Filed 4-3-17; 8:45 am]

BILLING CODE 4810-AL-P